DEPARTMENT OF ENERGY

Notice of Availability and Solicitation of Public Comment on the Draft Implementation Guidance Pertaining to the Extended Product System Rebate Program and Energy Efficient Transformer Rebate Program

AGENCY: Manufacturing and Supply Chains Office, Department of Energy.

ACTION: Notice of availability of draft guidance and solicitation of public comment.

SUMMARY: The U.S. Department of Energy (DOE) announces the notice of availability (NOA) and invites public comment on two draft guidance documents implementing the extended product system rebate program, and the energy efficient transformer rebate program of the Energy Act of 2020, as authorized by the Infrastructure Investment and Jobs Act, also known as the Bipartisan Infrastructure Law (BIL).

DATES: Comments on this draft guidance must be received by May 27, 2022.

ADDRESSES: Comments on this draft guidance must be provided in writing. Interested parties are to submit their written comments electronically to EPS_EET_rebates@ee.doe.gov and include either “Extended Product System Rebate Program” or “Energy Efficient Transformer Rebate Program” in the subject line of the email. Email attachments can be provided as a Microsoft Word (.docx) file or an Adobe PDF (.pdf) file, prepared in accordance with the detailed instructions in the NOA. Documents submitted electronically should clearly indicate which topic areas and specific questions are being addressed and should be limited to no more than 25 MB in size. The complete NOA and Draft Implementation Guidance document is located at https://www.energy.gov/eere/buildings/draft-implementation-guidance-pertaining-extended-product-system-rebate-program-and.

FOR FURTHER INFORMATION CONTACT: Ms. Ashley Armstrong, (202) 287-1779, Ashley.Armstrong@ee.doe.gov.

SUPPLEMENTARY INFORMATION: The draft guidance documents address sections 1005 and 1006 of the Energy Act of 2020, which direct DOE to establish rebate programs for extended product systems and energy efficient transformers. The draft guidance documents provide information as to how DOE is considering implementing the rebate programs, including definitions, eligibility criteria, eligibility window, rebate payment calculations, and application content requirements and process, and solicit feedback on key items.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority: This document of the Department of Energy was signed on April 20, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 22, 2022.
Treena V. Garrett,
Federal Register Liaison Officer, U.S. Department of Energy.

[FR Doc. 2022-08930 Filed 4-26-22; 8:45 am]

BILLING CODE 6450-01-P